DEPARTMENT OF THE INTERIOR

National Park Service

[NPS-WASO-NRNHL-0411-7108; 2280-665]

National Register of Historic Places; Notification of Pending Nominations and Related Actions

Nominations for the following properties being considered for listing or related actions in the National Register were received by the National Park Service before April 1, 2011. Pursuant to section 60.13 of 36 CFR Part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted by May 5, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARKANSAS

Cleburne County

Old Highway 16 Bridge, Lakefront Resort Rd., Edgemont, 11000262

GEORGIA

Coweta County

Vinewood, 1324 Roscoe Rd., Newnan, 11000263

Troup County

Westside Historic District, Roughly bounded by W. 10th St., the GA-AL state line, W. 15th St. & the Chattahoochee R., West Point, 11000264

MASSACHUSETTS

Essex County

Community House, 284 Bay Rd., Hamilton, 11000265

Saunders, Daniel, School, 243 S. Broadway, Lawrence, 11000266

Franklin County

Deerfield Valley Agricultural Society Fairgrounds, Park St., Charlemont, 1000267

NEW YORK

Albany County

University Club of Albany, The, 141 Washington Ave., Albany, 11000268

Broome County

Bundy, Harlow E., House, 129 Main St., Binghamton, 11000269

Erie County

20th Century Club, 595 Delaware Ave., Buffalo, 11000270

Buffalo Seminary, 205 Bidwell Pkwy., Buffalo, 11000271

Engine House # 2 & Hook & Ladder # 9, 310 Jersey St., Buffalo, 11000272

University Park Historic District, (Suburban Development of Buffalo, New York MPS) Portions of Larchmont Rd., Niagara Falls Blvd., Radcliffe Rd., University Ave., Allenhurst Rd., Pellhan Dr., Buffalo, 11000273

Greene County

Oak Hill Cemetery, NY 81, Oak Hill, 11000274

Niagara County

Herchell, Allan, Carousel Factory (Boundary Increase), 39 Geneva St., North Tonawanda, 11000276

Sheldon, Hazard H., House, 539 4th St., Niagara Falls, 11000275

Onondaga County

Ayling, John G., House, (Architecture of Ward Wellington Ward in Syracuse MPS), 223 DeWitt St., Syracuse, 11000277

Sullivan County

Forestburgh Town Hall, 305 Cty Rd. 48, Forestburgh, 11000278

WASHINGTON

Ferry County

Slagle, Jesse W. & Elizabeth, House, 912 S. Keller St., Republic, 11000279

King County

Allen, John B., School, 6532 Phinney Ave. N., Seattle, 11000280

A request for REMOVAL has been made for the following resource:

INDIANA

Vanderburgh County

Buckingham Apartments (Downtown Evansville MRA) 314-316 SE 3rd St., Evansville, 82000082

[FR Doc. 2011-9503 Filed 4-19-11; 8:45 am]

BILLING CODE 4312-51-P